FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 29, 2021.

A. Federal Reserve Bank of Philadelphia (William Spaniel, Senior Vice President) 100 North 6th Street, Philadelphia, Pennsylvania 19105-1521. Comments can also be sent electronically to Comments.applications@phil.frb.org:

1. Patriot Financial Partners, GP III, L.P., Patriot Financial Partners III, L.P., Patriot Financial Partners, GP III, LLC, Patriot Financial Advisors, L.P., Patriot Financial Advisors, LLC., W. Kirk Wycoff, James J. Lynch and James F. Deutsch, all of Radnor, Pennsylvania; as a group acting in concert to acquire voting shares of Volunteer Bancorp, Inc., and thereby indirectly acquire voting shares of Civis Bank, both of Rogersville, Tennessee.

B. Federal Reserve Bank of Kansas City (Dennis Denney, Assistant Vice President) 1 Memorial Drive, Kansas City, Missouri 64198-0001:

1. Michael Plate, Alma, Nebraska, individually and as trustee of The Banner County Ban Corp Employee Stock Ownership Plan and Trust; to acquire voting shares of Banner County Ban Corporation and thereby indirectly acquire Banner Capital Bank, all of Harrisburg, Nebraska. Additionally, Rebecca Plate, Ogallala, Nebraska; to retain voting shares of Banner County Ban Corporation and thereby indirectly retain voting shares of Banner Capital Bank; and both to join the Olsen/Wynne/Plate Control Group, a group acting in concert.

Board of Governors of the Federal Reserve System, March 9, 2021.
Michele Taylor Fennell,
Deputy Associate Secretary of the Board.

[FR Doc. 2021-05228 Filed 3-12-21; 8:45 am]

BILLING CODE P